DEPARTMENT OF COMMERCE

Foreign-Trade Zones Board

[B-18-2016]

Authorization of Limited Production Activity; Foreign-Trade Zone (FTZ) 186—Waterville, Maine; Flemish Master Weavers; Subzone 186A (Area Rugs) Sanford, Maine

On March 31, 2016, the City of Waterville, Maine, grantee of FTZ 186, submitted a notification of proposed production activity to the FTZ Board on behalf of Flemish Master Weavers, within Subzone 186A, in Sanford, Maine.

The notification was processed in accordance with the regulations of the FTZ Board (15 CFR part 400), including notice in the Federal Register inviting public comment (81 FR 22210, April 15, 2016). The FTZ Board has determined that further review of part of the proposed activity is warranted at this time. The production activity described in the notification is authorized on a limited basis, subject to the FTZ Act and the Board's regulations, including Section 400.14, and further subject to a restriction requiring that foreign-status polypropylene and polyester yarns (HTSUS Subheadings 5402.59 and 5402.33) be admitted to the subzone in privileged foreign status (19 CFR 146.41).

Dated: July 29, 2016.
Andrew McGilvray,
Executive Secretary.

[FR Doc. 2016-18539 Filed 8-4-16; 8:45 am]

BILLING CODE 3510-DS-P